SMALL BUSINESS ADMINISTRATION

[License No.: 09/09-5299]

Ally Finance Corporation; Notice of Surrender of License

Notice is hereby given that Ally Finance Corporation, located at 14011 Park Avenue, Suite 310, Victorville, California 92392, has surrendered its license to operate as a small business investment company under the Small Business Investment Act of 1958, as amended (the Act). Ally Finance Corporation was licensed by the Small Business Administration on June 6, 1982.

Under the authority vested by the Act and pursuant to the Regulations promulgate thereunder, the surrender of the license was accepted on May 9, 2001, and accordingly, all rights, privileges and franchises derived therefrom have been terminated.

(Catalog of Federal Domestic Assistance Program No. 59.011, Small Business Investment Companies)
Dated: May 16, 2001.
Harry Haskins,
Acting Associate Administrator for Investment.

[FR Doc. 01-13188 Filed 5-24-01; 8:45 am]

BILLING CODE 8025-01-P